DEPARTMENT OF HEALTH AND HUMAN SERVICES

Health Resources and Services Administration

National Advisory Council on Nurse Education and Practice

AGENCY: Health Resources and Service Administration (HRSA), The Department of Health and Human Services (HHS).

ACTION: Notice.

SUMMARY: HHS is hereby giving notice that the charter for the National Advisory Council on Nurse Education and Practice (NACNEP) has been renewed. The effective date of the renewed charter is November 30, 2018.

FOR FURTHER INFORMATION CONTACT: Tracy Gray, MBA, MS, RN, Designated Federal Official, NACNEP, HRSA, 5600 Fishers Lane, Rockville, Maryland 20857. Phone: 301-443-3346; email: tgray1@hrsa.gov.

SUPPLEMENTARY INFORMATION: The Secretary of HHS (Secretary), and by delegation, the Administrator of HRSA, are charged under Title VIII of the Public Health Service Act, as amended, with responsibility for a wide range of activities in support of nursing education and practice which include: Enhancement of the composition of the nursing workforce, improvement of the distribution and utilization of nurses to meet the health needs of the nation, expansion of the knowledge, skills, and capabilities of nurses to enhance the quality of nursing practice, development and dissemination of improved models of organization, financing and delivery of nursing services and promotion of interdisciplinary approaches to the delivery of health services, particularly in the context of public health and primary care.

NACNEP advises the Secretary and Congress on policy issues related to Title VIII programs administered by HRSA's Bureau of Health Workforce. Title VIII programs include, but are not limited to, issues relating to nurse workforce supply, education, and practice improvement. Meetings are held not less than twice a year. Renewal of the NACNEP charter authorizes the Council to operate until November 30, 2020.

A copy of the NACNEP charter is available on the NACNEP website at: http://www.hrsa.gov/advisorycommittees/bhpradvisory/nacnep/index.html. A copy of the charter also can be obtained by accessing the FACA database that is maintained by the Committee Management Secretariat under the General Services Administration. The website address for the FACA database is http://www.facadatabase.gov/.

Amy P. McNulty,
Acting Director, Division of the Executive Secretariat.

[FR Doc. 2018-26123 Filed 11-30-18; 8:45 am]

BILLING CODE 4165-15-P